DEPARTMENT OF HOMELAND SECURITY

U.S. Customs and Border Protection

Accreditation of Inspectorate America Corporation, as a Commercial Laboratory

AGENCY: U.S. Customs and Border Protection, Department of Homeland Security.

ACTION: Notice of accreditation of Inspectorate America Corporation, as a commercial laboratory.

SUMMARY: Notice is hereby given, pursuant to CBP regulations, that Inspectorate America Corporation has been accredited to test petroleum and certain petroleum products for customs purposes for the next three years as of May 13, 2014.

DATES: The accreditation of Inspectorate America Corporation, as commercial laboratory became effective on May 13, 2014. The next triennial inspection date will be scheduled for May 2017.

FOR FURTHER INFORMATION CONTACT: Approved Gauger and Accredited Laboratories Manager, Laboratories and Scientific Services, U.S. Customs and Border Protection, 1331 Pennsylvania Avenue NW., Suite 1500N, Washington, DC 20229, tel. 202-344-1060.

SUPPLEMENTARY INFORMATION: Notice is hereby given pursuant to 19 CFR 151.12, that Inspectorate America Corporation, 2184 Jefferson Highway, Lutcher, LA 70071, has been accredited to test petroleum and certain petroleum products for customs purposes, in accordance with the provisions of 19 CFR 151.12. Inspectorate America Corporation is accredited for the following laboratory analysis procedures and methods for petroleum and certain petroleum products set forth by the U.S. Customs and Border Protection Laboratory Methods (CBPL) and American Society for Testing and Materials (ASTM):

CBPL No. | ASTM | Title
27-01 | ASTM D 287 | Standard Test Method for API Gravity of Crude Petroleum and Petroleum Products (Hydrometer Method).
27-03 | ASTM D 4006 | Standard test method for water in crude oil by distillation.
27-05 | ASTM D 4928 | Standard Test Method for Water in Crude Oils by Coulometric Karl Fischer Titration.
27-06 | ASTM D 473 | Standard Test Method for Sediment in Crude Oils and Fuel Oils by the Extraction Method.
27-11 | ASTM D 445 | Standard Test Method for Kinematic Viscosity of Transparent and Opaque Liquids (the Calculation of Dynamic Velocity).
27-13 | ASTM D 4294 | Standard test method for sulfur in petroleum and petroleum products by energy-dispersive x-ray fluorescence spectrometry.
27-50 | ASTM D 93 | Standard test methods for flash point by Pensky-Martens Closed Cup Tester.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to cbp.labhq@dhs.gov. Please reference the Web site listed below for a complete listing of CBP approved gaugers and accredited laboratories.

http://www.cbp.gov/sites/default/files/documents/gaulist_3.pdf.

Date: July 11, 2014.
Ira S. Reese,
Executive Director, Laboratories and Scientific Services Directorate.

[FR Doc. 2014-17003 Filed 7-18-14; 8:45 am]

BILLING CODE 9111-14-P